DEPARTMENT OF ENERGY

Federal Energy Regulatory Commission

Combined Notice of Filings #1

Take notice that the Commission received the following electric corporate filings:

Docket Numbers: EC25-127-000.

Applicants: Elwood Energy LLC.

Description: Application for Authorization Under Section 203 of the Federal Power Act of Elwood Energy LLC.

Filed Date: 8/14/25.

Accession Number: 20250814-5225.

Comment Date: 5 p.m. ET 9/4/25.

Docket Numbers: EC25-128-000.

Applicants: Duke Energy Corporation, Duke Energy Carolinas, LLC, Duke Energy Progress, LLC.

Description: Joint Application for Authorization Under Section 203 of the Federal Power Act of Duke Energy Corporation, et al.

Filed Date: 8/14/25.

Accession Number: 20250814-5227.

Comment Date: 5 p.m. ET 9/4/25.

Docket Numbers: EC25-129-000.

Applicants: Calpine Mid-Atlantic Generation, LLC, First State Generation, LLC.

Description: Joint Application for Authorization Under Section 203 of the Federal Power Act of Calpine Mid-Atlantic Generation, LLC, et al.

Filed Date: 8/15/25.

Accession Number: 20250815-5209.

Comment Date: 5 p.m. ET 9/5/25.

Docket Numbers: EC25-130-000.

Applicants: Nine Mile Point Nuclear Station, LLC.

Description: Application for Authorization Under Section 203 of the Federal Power Act of Nine Mile Point Nuclear Station, LLC.

Filed Date: 8/15/25.

Accession Number: 20250815-5211.

Comment Date: 5 p.m. ET 9/5/25.

Docket Numbers: EC25-131-000.

Applicants: Linden VFT, LLC, Riverview Power Holdings LLC.

Description: Joint Application for Authorization Under Section 203 of the Federal Power Act of Linden VFT, LLC, et al.

Filed Date: 8/15/25.

Accession Number: 20250815-5214.

Comment Date: 5 p.m. ET 9/5/25.

Take notice that the Commission received the following exempt wholesale generator filings:

Docket Numbers: EG25-464-000.

Applicants: Kearsarge Orleans BESS LLC.

Description: Kearsarge Orleans BESS LLC submits Notice of Self-Certification of Exempt Wholesale Generator Status.

Filed Date: 8/15/25.

Accession Number: 20250815-5182.

Comment Date: 5 p.m. ET 9/5/25.

Docket Numbers: EG25-465-000.

Applicants: Kearsarge Sterling LLC.

Description: Kearsarge Sterling LLC submits Notice of Self-Certification of Exempt Wholesale Generator Status.

Filed Date: 8/15/25.

Accession Number: 20250815-5184.

Comment Date: 5 p.m. ET 9/5/25.

Docket Numbers: EG25-466-000.

Applicants: Amber Meadow Solar, LLC.

Description: Amber Meadow Solar, LLC submits Notice of Self-Certification of Exempt Wholesale Generator Status.

Filed Date: 8/18/25.

Accession Number: 20250818-5041.

Comment Date: 5 p.m. ET 9/8/25.

Docket Numbers: EG25-467-000.

Applicants: Cabokenze Energy Storage, LLC.

Description: Cabokenze Energy Storage, LLC submits Notice of Self-Certification of Exempt Wholesale Generator Status.

Filed Date: 8/18/25.

Accession Number: 20250818-5042.

Comment Date: 5 p.m. ET 9/8/25.

Docket Numbers: EG25-468-000.

Applicants: Decatur Energy Storage, LLC.

Description: Decatur Energy Storage, LLC submits Notice of Self-Certification of Exempt Wholesale Generator Status.

Filed Date: 8/18/25.

Accession Number: 20250818-5043.

Comment Date: 5 p.m. ET 9/8/25.

Docket Numbers: EG25-469-000.

Applicants: Dougherty County Energy Storage, LLC.

Description: Dougherty County Energy Storage, LLC submits Notice of Self-Certification of Exempt Wholesale Generator Status.

Filed Date: 8/18/25.

Accession Number: 20250818-5045.

Comment Date: 5 p.m. ET 9/8/25.

Docket Numbers: EG25-470-000.

Applicants: White Pine Energy Storage, LLC.

Description: White Pine Energy Storage, LLC submits Notice of Self-Certification of Exempt Wholesale Generator Status.

Filed Date: 8/18/25.

Accession Number: 20250818-5046.

Comment Date: 5 p.m. ET 9/8/25.

Docket Numbers: EG25-471-000.

Applicants: Saunder's Crossing Energy Storage, LLC.

Description: Saunder's Crossing Energy Storage, LLC submits Notice of Self-Certification of Exempt Wholesale Generator Status.

Filed Date: 8/18/25.

Accession Number: 20250818-5047.

Comment Date: 5 p.m. ET 9/8/25.

Docket Numbers: EG25-472-000.

Applicants: Dothan Solar, LLC.

Description: Dothan Solar, LLC submits Notice of Self-Certification of Exempt Wholesale Generator Status.

Filed Date: 8/18/25.

Accession Number: 20250818-5048.

Comment Date: 5 p.m. ET 9/8/25.

Docket Numbers: EG25-473-000.

Applicants: Shortleaf Solar, LLC.

Description: Shortleaf Solar, LLC submits Notice of Self-Certification of Exempt Wholesale Generator Status.

Filed Date: 8/18/25.

Accession Number: 20250818-5049.

Comment Date: 5 p.m. ET 9/8/25.

Docket Numbers: EG25-474-000.

Applicants: Wilsonville Solar, LLC.

Description: Wilsonville Solar, LLC submits Notice of Self-Certification of Exempt Wholesale Generator Status.

Filed Date: 8/18/25.

Accession Number: 20250818-5051.

Comment Date: 5 p.m. ET 9/8/25.

Take notice that the Commission received the following electric rate filings:

Docket Numbers: ER22-2494-002.

Applicants: FirstEnergy Service Company.

Description: Notice of Change in Status of FirstEnergy Service Company.

Filed Date: 8/13/25.

Accession Number: 20250813-5182.

Comment Date: 5 p.m. ET 9/3/25.

Docket Numbers: ER25-279-002; ER22-1703-005; ER17-991-012; ER17-2011-004; ER17-2012-002; ER17-2015-002; ER24-2589-004; ER24-2590-004.

Applicants: Castleton Commodities Energy Trading LLC, Castleton Commodities Energy Services LLC, Roseton Generating LLC, Rensselaer Generating LLC, Castleton Commodities Merchant Trading L.P., Hunlock Energy, LLC, Salem Harbor Power Development LP, Hunlock Creek Generating LLC.

Description: Notice of Change in Status of Hunlock Creek Generating LLC, et al.

Filed Date: 8/15/25.

Accession Number: 20250815-5216.

Comment Date: 5 p.m. ET 9/5/25.

Docket Numbers: ER25-2560-001.

Applicants: American Transmission Systems, Incorporated.

Description: Tariff Amendment: Amendment of SA No. 3995 in Docket No. ER25-2560-000 to be effective 8/20/2025.

Filed Date: 8/18/25.

Accession Number: 20250818-5087.

Comment Date: 5 p.m. ET 9/8/25.

Docket Numbers: ER25-3079-001.

Applicants: Kearsarge Sterling LLC.

Description: Tariff Amendment: KS_Sterling_MBRA_Correction to be effective 10/1/2025.

Filed Date: 8/18/25.

Accession Number: 20250818-5057.

Comment Date: 5 p.m. ET 9/8/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: August 18, 2025.
Carlos D. Clay,
Deputy Secretary.

[FR Doc. 2025-15994 Filed 8-20-25; 8:45 am]

BILLING CODE 6717-01-P